DEPARTMENT OF JUSTICE

Notice of Lodging of Proposed Consent Decree Under the Clean Water Act

On August 6, 2015, the Department of Justice lodged a proposed consent decree with the United States District Court for the Southern District of West Virginia in the lawsuit entitled United States, et al. v. Arch Coal, Inc., et al., Civil Action No. 2:15-cv-11838.

The proposed Consent Decree will resolve Clean Water Act and associated state claims alleged in this action by the United States, the State of West Virginia, the Commonwealth of Virginia, and the Pennsylvania Department of Environmental Protection against Arch Coal, Inc. and 14 of its subsidiaries ¹ for the discharge of pollutants into state waters and waters of the United States in violation of limits in National Pollutant Discharge Elimination System (“NPDES”) permits. Under the proposed Consent Decree, Defendants will perform injunctive relief including: (1) Implementation of a compliance management system and periodic internal and third-party environmental compliance auditing; (2) data tracking and evaluation measures, including a centralized audit and violations database to track information relevant to compliance efforts at each outfall; and (3) response measures for effluent limit violations, including consultation with a third-party expert and automatic stipulated penalties. In addition, Defendants will pay a total civil penalty of $2 million.

¹ Hawthorne Coal Co., Inc.; ICG Beckley, LLC; ICG East Kentucky, LLC; ICG Eastern, LLC; ICG Knott County, LLC; ICG Tygart Valley, LLC; Juliana Mining Company, Inc.; King Knob Coal Co., Inc.; Patriot Mining Company, Inc.; Powell Mountain Energy, LLC; The Sycamore Group, LLC; Vindex Energy Corp.; White Wolf Energy, Inc.; and Wolf Run Mining Co.

The publication of this notice opens a period for public comment on the proposed consent decree. Comments should be addressed to the Assistant Attorney General, Environment and Natural Resources Division, and should refer to United States, et al. v. Arch Coal, Inc., et al., D.J. Ref. No. 90-5-1-1-09476/3. All comments must be submitted no later than thirty (30) days after the publication date of this notice. Comments may be submitted either by email or by mail:

To submit comments: | Send them to:
By e-mail | pubcomment-ees.enrd@usdoj.gov.
By mail | Assistant Attorney General, U.S. DOJ-ENRD, P.O. Box 7611, Washington, DC 20044-7611.

During the public comment period, the proposed consent decree may be examined and downloaded at this Justice Department Web site: http://www.justice.gov/enrd/consent-decrees. We will provide a paper copy of the proposed consent decree upon written request and payment of reproduction costs. Please mail your request and payment to:

Consent Decree Library, U.S. DOJ—ENRD, P.O. Box 7611, Washington, DC 20044-7611.

Please enclose a check or money order for $18.25 (25 cents per page reproduction cost) payable to the United States Treasury. For a paper copy without the exhibits and signature pages, the cost is $15.00.

Robert Brook,
Assistant Section Chief, Environmental Enforcement Section, Environment and Natural Resources Division.

[FR Doc. 2015-19800 Filed 8-11-15; 8:45 am]

BILLING CODE P